DEPARTMENT OF VETERANS AFFAIRS

[OMB Control No. 2900-0568]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 8, 2002.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail: denise.mclamb@mail.va.gov. Please refer to “OMB Control No. 2900-0568.”

Send comments and recommendations concerning any aspect of the information collection to VA's OMB Desk Officer, OMB Human Resources and Housing Branch, New Executive Office Building, Room 10235, Washington, DC 20503 (202) 395-7316. Please refer to “OMB Control No. 2900-0568” in any correspondence.

SUPPLEMENTARY INFORMATION: Title: Submission of School Catalog to the State Approving Agency.

OMB Control Number: 2900-0568.

Type of Review: Reinstatement, without change, of a previously approved collection for which approval has expired.

Abstract: Accredited educational institutions, with the exceptions of elementary and secondary schools, must submit a copy of their catalog to the State approving agency when applying for approval of a new course. State approval agencies use the catalogs to determine what courses can be approved for VA training. Without this information, the State approving agency cannot determine what courses could be approved.

An agency may not conduct or sponsor, and a person is not required to respond to a collection of information unless it displays a currently valid OMB control number. The Federal Register Notice with a 60-day comment period soliciting comments on this collection of information was published on April 22, 2002, at pages 19622—19623.

Affected Public: Not-for-profit institutions, business or other for-profit.

Estimated Annual Burden: 1,900 hours.

Estimated Average Burden Per Respondent: 15 minutes.

Frequency of Response: On occasion.

Estimated Number of Respondents: 7,600.

Dated: June 26, 2002.
By direction of the Secretary.
Genie McCully,
Acting Director, Information Management Service.

[FR Doc. 02-17128 Filed 7-8-02; 8:45 am]

BILLING CODE 8320-01-P